DEPARTMENT OF THE INTERIOR

National Park Service

National Register of Historic Places; Notification of Pending Nominations and Related Actions

Nominations for the following properties being considered for listing or related actions in the National Register were received by the National Park Service before July 8, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by August 8, 2006.

John W. Roberts,
Acting Chief, National Register/National Historic Landmarks Program.

VIRGINIA

Amherst County

Edgewood, 138 Garland Ave., Amherst, 06000706

Charles City County

Nance—Major House and Store, 10811 Courthouse Rd., Charles City, 06000707

Goochland County

Brightly, 2844 River Rd W, Goochland, 06000705

Henry County

Stone, R.L., House, 3136 Fairystone Park Hwy., Bassett, 06000708

[FR Doc. E6-11741 Filed 7-21-06; 8:45 am]

BILLING CODE 4312-51-P